OFFICE OF MANAGEMENT AND BUDGET

Draft Joint Report on the Review of the Application of European Union and United States Regulatory Impact Assessment Guidelines on the Analysis of Impacts on International Trade and Investment

AGENCY: Office of Management and Budget, Executive Office of the President.

ACTION: Notice of availability and request for comments.

SUMMARY: The Office of Management and Budget (OMB) requests comments on the Draft Joint Report on the Review of the Application of European Union (EU) and United States (U.S.) Regulatory Impact Assessment Guidelines on the Analysis of Impacts on International Trade and Investment. The full Draft Report is available at http://www.whitehouse.gov/omb/inforeg/regpol.html#opp. This joint draft report was prepared by the Secretariat General of the European Commission and the OMB's Office of Information and Regulatory Affairs (OIRA) as part of an EC-OMB dialogue on methodological issues for consideration at the November 9th, 2007 meeting in Washington, DC of the U.S.-EU Transatlantic Economic Council.

DATES: To ensure consideration of comments as OMB and the EC prepare the final version of this report, comments must be in writing and received by February 8, 2008.

ADDRESSES: We are still experiencing delays in the regular mail, including first class and express mail. To ensure that your comments are received, we recommend that comments on this draft report be electronically mailed to OIRA_BC_RPT@omb.eop.gov, or faxed to (202) 395-6974. You may also submit comments to Carolyn Swinney, Office of Information and Regulatory Affairs, Office of Management and Budget, NEOB, Room 10235, 725 17th Street, NW., Washington, DC 20503.

FOR FURTHER INFORMATION CONTACT: Dominic Mancini, Office of Information and Regulatory Affairs, Office of Management and Budget, NEOB, Room 10235, 725 17th Street, NW., Washington, DC 20503. Telephone: (202) 395-7316.

SUPPLEMENTARY INFORMATION: This draft report was prepared by the Secretariat General of the European Commission and the U.S. Office of Management and Budget as part of the dialogue between the European Commission services and the Office of Management and Budget on methodological issues as agreed in the “Framework for Advancing Transatlantic Economic Integration between the European Union and the United States of America,” signed at the EU-US summit on 30 April 2007.

It reviews the application of the Office of Management and Budget's Circular A-4, regulatory analysis guidance, and the European Commission's Impact Assessment Guidelines, with the goal of ensuring that assessment of future regulations takes due account of their impacts on international trade and investment.

It contains two separate reports on existing methodology and practices on both sides, and suggests possible ways forward in the concluding chapter.

Susan E. Dudley,
Administrator, Office of Information and Regulatory Affairs.

[FR Doc. E7-23856 Filed 12-7-07; 8:45 am]

BILLING CODE 3110-01-P